DEPARTMENT OF COMMERCE

Foreign-Trade Zones Board

[B-31-2023]

Foreign-Trade Zone (FTZ) 147; Authorization of Production Activity; PolyVisions Holdings, Inc.; (Plastic Resin Compounds); Manchester, Pennsylvania

On April 28, 2023, PolyVisions Holdings, Inc. submitted a notification of proposed production activity to the FTZ Board for its facility within FTZ 147, in Manchester, Pennsylvania.

The notification was processed in accordance with the regulations of the FTZ Board (15 CFR part 400), including notice in the Federal Register inviting public comment (88 FR 29080, May 5, 2023). On August 28, 2023, the applicant was notified of the FTZ Board's decision that no further review of the activity is warranted at this time. The production activity described in the notification was authorized, subject to the FTZ Act and the FTZ Board's regulations, including section 400.14.

Dated: August 28, 2023.
Camille Evans,
Acting Executive Secretary.

[FR Doc. 2023-18816 Filed 8-30-23; 8:45 am]

BILLING CODE 3510-DS-P